LIBRARY OF CONGRESS

Copyright Office

[Docket No. 2023-6; COLC-2023-0006]

Artificial Intelligence and Copyright

AGENCY: U.S. Copyright Office, Library of Congress.

ACTION: Notice of inquiry; extension of comment periods.

SUMMARY: The United States Copyright Office is extending the deadline to submit comments in connection with a study of the copyright law and policy issues raised by artificial intelligence (“AI”) systems.

DATES: The comment periods for the document published at 88 FR 59942 on August 30, 2023, are extended. Initial written comments are due no later than 11:59 p.m. Eastern Time on Monday, October 30, 2023. Written reply comments are due no later than 11:59 p.m. Eastern Time on Wednesday, November 29, 2023.

ADDRESSES: For reasons of governmental efficiency, the Copyright Office is using the regulations.gov system for the submission and posting of public comments in this proceeding. All comments should be submitted electronically through regulations.gov. Specific instructions for submitting comments are available on the Copyright Office website at https://copyright.gov/policy/artificial-intelligence. If electronic submission is not feasible, please contact the Office using the contact information below for special instructions.

FOR FURTHER INFORMATION CONTACT: Rhea Efthimiadis, Assistant to the General Counsel, by email at meft@copyright.gov or telephone at 202-707-8350.

SUPPLEMENTARY INFORMATION: On August 30, 2023, the U.S. Copyright Office issued a notice of inquiry seeking comments from the public on a number of questions about the copyright law and policy issues raised by AI systems. The notice set a deadline for initial comments on October 18, 2023, and for reply comments on November 15, 2023.

To ensure that members of the public have sufficient time to prepare responses to the Office's questions, and to ensure that the Office can proceed on a timely basis with its inquiry of the issues identified in its notice with the benefit of a complete record, the Office is extending the deadlines as set forth here. Initial written comments will now be due by 11:59 p.m. Eastern Time on October 30, 2023. Reply comments will be due by 11:59 p.m. Eastern Time on November 29, 2023.

Dated: September 18, 2023.
Suzanne V. Wilson,
General Counsel and Associate Register of Copyrights.
Maria Strong,
Associate Register of Copyrights and Director of Policy and International Affairs.

[FR Doc. 2023-20480 Filed 9-20-23; 8:45 am]

BILLING CODE 1410-30-P